DEPARTMENT OF HEALTH AND HUMAN SERVICES

National Institutes of Health

National Institute on Aging; Amended Notice of Meeting

Notice is hereby given of a change in the meeting of the Board of Scientific Counselors, NIA, October 22, 2024, 8 a.m. to October 24, 2024, 11:30 a.m., National Institutes of Health, Biomedical Research Center, 251 Bayview Boulevard, Baltimore, MD, 21224 which was published in the Federal Register on July 9, 2024, 89 FR 56395.

The following FRN is being amended to change the meeting times from 8 a.m.-2 p.m. to 8 a.m.-4:30 p.m. on October 22, 2024; from 8 a.m.-6 p.m. to 8 a.m.-5 p.m. on October 23, 2024; from 8 a.m.-11:30 a.m. to 8 a.m.-1:30 p.m. on October 24, 2024. The meeting is partially closed to the public.

Dated: October 8, 2024.
Miguelina Perez,
Program Analyst, Office of Federal Advisory Committee Policy.

[FR Doc. 2024-23636 Filed 10-10-24; 8:45 am]

BILLING CODE 4140-01-P